DEPARTMENT OF THE TREASURY

Submission for OMB Review; Comment Request

March 6, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 12, 2000 to be assured of consideration.

Internal Revenue Service (IRS)

OMB Number: 1545-1347.

Regulation Project Number: FI-7-94 and FI-36-92 Final.

Type of Review: Extension.

Title: Arbitrage Restrictions on Tax-Exempt Bonds.

Description: The Code limits the ability of state and local government issuers of tax-exempt bonds to earn and/or keep arbitrage profits earned with bond proceeds. This regulation requires recordkeeping of certain interest rate hedges so that the hedges are taken into account in determining those profits.

Respondents: State, Local or Tribal Government.

Estimated Number of Respondents/Recordkeepers: 3,100.

Estimated Burden Hours Per Respondent/Recordkeeper: 14 hr., 34 min.

Frequency of Response: On occasion.

Estimated Total Reporting/Recordkeeping Burden: 42,050 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 00-6022 Filed 3-10-00; 8:45 am]

BILLING CODE 4830-01-U